DEPARTMENT OF ENERGY

Federal Energy Regulatory Commission

Combined Notice of Filings #2

Take notice that the Commission received the following electric rate filings:

Docket Numbers: ER10-1633-003; ER10-1674-004; ER16-2186-001.

Applicants: Deseret Generation & Transmission Co-operative, Inc.

Description: Triennial Market Power Analysis for Northwest Region of Deseret Generation & Transmission Co-operative, Inc.

Filed Date: 6/30/22.

Accession Number: 20220630-5360.

Comment Date: 5 p.m. ET 8/29/22.

Docket Numbers: ER10-2290-011.

Applicants: Avista Corporation.

Description: Triennial Market Power Analysis for the Northwest Region of Avista Corporation.

Filed Date: 6/30/22.

Accession Number: 20220630-5349.

Comment Date: 5 p.m. ET 8/29/22.

Docket Numbers: ER10-2374-016; ER17-2059-011.

Applicants: Puget Sound Energy, Inc.

Description: Triennial Market Power Analysis for the Northwest Region of Puget Sound Energy, Inc.

Filed Date: 6/30/22.

Accession Number: 20220630-5343.

Comment Date: 5 p.m. ET 8/29/22.

Docket Numbers: ER10-2812-016; ER10-1291-023; ER10-2843-015.

Applicants: GenConn Middletown LLC, GenConn Energy LLC, GenConn Devon LLC.

Description: Notice of Non-Material Change in Status of GenConn Devon LLC, et al.

Filed Date: 7/1/22.

Accession Number: 20220701-5164.

Comment Date: 5 p.m. ET 7/22/22.

Docket Numbers: ER10-2822-020; ER16-1238-004; ER16-1250-012; ER17-1392-004; ER10-3158-010; ER21-41-001; ER12-308-010; ER10-3162-010; ER19-2707-004; ER10-3161-010; ER17-1242-003.

Applicants: Tule Wind LLC, Shiloh I Wind Project, LLC, Poseidon Wind, LLC, Mountain View Power Partners III, LLC, Manzana Wind LLC, La Joya Wind, LLC, Dillon Wind LLC, El Cabo Wind LLC, Avangrid Arizona Renewables, LLC, Atlantic Renewable Projects II LLC.

Description: Triennial Market Power Analysis for the Southwest Region of Atlantic Renewable Projects II LLC, et al.

Filed Date: 6/30/22.

Accession Number: 20220630-5348.

Comment Date: 5 p.m. ET 8/29/22.

Docket Numbers: ER11-4267-018; ER16-2169-006; ER16-2364-006; ER17-692-005; ER10-2774-006; ER10-566-004; ER17-1214-005; ER11-3917-004.

Applicants: Mojave Solar LLC, Coso Geothermal Power Holdings, LLC, Arizona Solar One LLC, Algonquin Power Sanger LLC, Algonquin SKIC 10 Solar, LLC, Algonquin SKIC 20 Solar, LLC, Algonquin Energy Services Inc.

Description: Triennial Market Power Analysis for the Southwest Region of Algonquin Energy Services Inc., et al.

Filed Date: 6/30/22.

Accession Number: 20220630-5355.

Comment Date: 5 p.m. ET 8/29/22.

Docket Numbers: ER15-957-001; ER11-3634-008.

Applicants: KES Kingsburg, L.P., AltaGas Ripon Energy Inc.

Description: Triennial Market Power Analysis for the Northwest Region and Notice of Change in Status of AltaGas Ripon Energy Inc., et al.

Filed Date: 7/1/22.

Accession Number: 20220701-5162.

Comment Date: 5 p.m. ET 8/30/22.

Docket Numbers: ER16-1999-001; ER16-1998-001; ER16-2000-001; ER16-2003-001; ER16-2006-001; ER16-2002-001; ER16-2001-001; ER19-537-004; ER16-1644-005; ER14-608-005.

Applicants: High Desert Power Project, LLC, MRP Generation Holdings, LLC, MRP San Joaquin Energy, LLC, Malaga Power, LLC, Midway Peaking, LLC, CalPeak Power—Vaca Dixon LLC, CalPeak Power—Panoche LLC, CalPeak Power—Enterprise LLC, CalPeak Power—Border LLC, CalPeak Power LLC.

Description: Triennial Market Power Analysis for the Southwest Region of CalPeak Power LLC, et al.

Filed Date: 6/29/22.

Accession Number: 20220629-5195.

Comment Date: 5 p.m. ET 8/29/22.

Docket Numbers: ER17-556-006; ER17-104-008; ER17-105-008; ER10-1362-008; ER12-2639-011; ER21-2330-001; ER21-2331-001; ER21-2333-001; ER21-2336-001.

Applicants: Tecolote Wind LLC, Red Cloud Wind LLC, Duran Mesa LLC, Clines Corners Wind Farm LLC, Ocotillo Express LLC, Hatchet Ridge Wind, LLC, Broadview Energy JN, LLC, Broadview Energy KW, LLC, Grady Wind Energy Center, LLC.

Description: Triennial Market Power Analysis for Southwest Region of Grady Wind Energy Center, LLC, et al.

Filed Date: 6/30/22.

Accession Number: 20220630-5352.

Comment Date: 5 p.m. ET 8/29/22.

Docket Numbers: ER17-1607-005; ER17-1608-005; ER20-27-005; ER20-59-003.

Applicants: AZ Solar 1, LLC, Wright Solar Park LLC, Sunray Energy 3 LLC, Sunray Energy 2, LLC.

Description: Triennial Market Power Analysis for Southwest Region of Sunray Energy 2, LLC, et al.

Filed Date: 6/29/22.

Accession Number: 20220629-5196.

Comment Date: 5 p.m. ET 8/29/22.

Docket Numbers: ER18-1077-005; ER18-1076-005; ER13-1430-014; ER13-1561-013; ER21-965-003; ER21-1259-003.

Applicants: Coso Battery Storage, LLC, Ventura Energy Storage, LLC, Centinela Solar Energy, LLC, Arlington Valley Solar Energy II, LLC, GASNA 6P, LLC, GASNA 36P, LLC.

Description: Triennial Market Power Analysis for the Southwest Region of GASNA 36P, LLC, et al.

Filed Date: 6/30/22.

Accession Number: 20220630-5359.

Comment Date: 5 p.m. ET 8/29/22.

Docket Numbers: ER22-2268-000.

Applicants: NorthWestern Corporation.

Description: Tariff Amendment: Cancellation of SA 925 PTP TSA with EKI to be effective 9/1/2022.

Filed Date: 7/1/22.

Accession Number: 20220701-5121.

Comment Date: 5 p.m. ET 7/22/22.

Docket Numbers: ER22-2269-000.

Applicants: NorthWestern Corporation.

Description: § 205(d) Rate Filing: RS 188—Revised Colstrip 1 &amp; 2 Transmission Agreement to be effective 9/1/2022.

Filed Date: 7/1/22.

Accession Number: 20220701-5125.

Comment Date: 5 p.m. ET 7/22/22.

Docket Numbers: ER22-2270-000.

Applicants: Vermont Transco LLC.

Description: § 205(d) Rate Filing: Annual Exhibit A Information Filing for the 1991 Transmission Agreement to be effective 7/1/2022.

Filed Date: 7/1/22.

Accession Number: 20220701-5129.

Comment Date: 5 p.m. ET 7/22/22.

Docket Numbers: ER22-2271-000.

Applicants: Southwest Power Pool, Inc.

Description: § 205(d) Rate Filing: 2881R14 City of Chanute, KS NITSA NOA to be effective 9/1/2022.

Filed Date: 7/1/22.

Accession Number: 20220701-5178.

Comment Date: 5 p.m. ET 7/22/22.

Docket Numbers: ER22-2272-000.

Applicants: Southwest Power Pool, Inc.

Description: § 205(d) Rate Filing: 3675R3 Doniphan Electric Cooperative Assn, Inc. NITSA NOA to be effective 9/1/2022.

Filed Date: 7/1/22.

Accession Number: 20220701-5179.

Comment Date: 5 p.m. ET 7/22/22.

Docket Numbers: ER22-2273-000.

Applicants: PJM Interconnection, L.L.C.

Description: § 205(d) Rate Filing: Amendment to WMPA, Service Agreement No. 5997; Queue No. AF1-249 to be effective 2/11/2021.

Filed Date: 7/1/22.

Accession Number: 20220701-5206.

Comment Date: 5 p.m. ET 7/22/22.

Docket Numbers: ER22-2274-000.

Applicants: Southwest Power Pool, Inc.

Description: § 205(d) Rate Filing: 3980 Panhandle Solar GIA to be effective 6/28/2022.

Filed Date: 7/1/22.

Accession Number: 20220701-5228.

Comment Date: 5 p.m. ET 7/22/22.

Docket Numbers: ER22-2275-000.

Applicants: Windrose Power and Gas LLC.

Description: Notice of Cancellation of Market Based Rate Tariff of Windrose Power and Gas, LLC.

Filed Date: 6/30/22.

Accession Number: 20220630-5346.

Comment Date: 5 p.m. ET 7/21/22.

Docket Numbers: ER22-2276-000.

Applicants: Morgantown Station, LLC.

Description: Tariff Amendment: Notice of Cancellation of Reactive Service Rate Schedule to be effective 10/1/2022.

Filed Date: 7/1/22.

Accession Number: 20220701-5260.

Comment Date: 5 p.m. ET 7/22/22.

Docket Numbers: ER22-2277-000.

Applicants: Lanyard Power Holdings, LLC.

Description: § 205(d) Rate Filing: Proposed Revisions to Reactive Service Rate Schedule to be effective 10/1/2022.

Filed Date: 7/1/22.

Accession Number: 20220701-5269.

Comment Date: 5 p.m. ET 7/22/22.

Docket Numbers: ER22-2278-000.

Applicants: Southwest Power Pool, Inc.

Description: § 205(d) Rate Filing: 3215R12 People's Electric Cooperative NITSA NOAs to be effective 6/1/2022.

Filed Date: 7/1/22.

Accession Number: 20220701-5309.

Comment Date: 5 p.m. ET 7/22/22.

Docket Numbers: ER22-2279-000.

Applicants: AltaGas Ripon Energy Inc.

Description: § 205(d) Rate Filing: Normal 2022 to be effective 7/2/2022.

Filed Date: 7/1/22.

Accession Number: 20220701-5323.

Comment Date: 5 p.m. ET 7/22/22.

Docket Numbers: ER22-2280-000.

Applicants: KES Kingsburg, L.P.

Description: § 205(d) Rate Filing: Normal filing 2022 to be effective 7/2/2022.

Filed Date: 7/1/22.

Accession Number: 20220701-5374.

Comment Date: 5 p.m. ET 7/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2022.
Debbie-Anne A. Reese,
Deputy Secretary.

[FR Doc. 2022-14593 Filed 7-7-22; 8:45 am]

BILLING CODE 6717-01-P